FEDERAL COMMUNICATIONS COMMISSION

[Report No. 2495]

Petitions for Reconsideration and Clarification of Action in Rulemaking Proceeding

July 10, 2001.

Petitions for Reconsideration and Clarification have been filed in the Commission's rulemaking proceeding listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by July 31, 2001. See Section 1.4(b)(1) of the Commission's rules (47 CFR 1.4(b)(1)). Replies to an opposition must be filed within 10 days after the time for filing oppositions has expired.

Subject:

Federal-State Joint Board on Universal Service (CC Docket No. 96-45)

Multi-Association Group (MAG) Plan for Regulation of Interstate Services of Non-Price Cap Incumbent Local Exchange Carriers and Interexchange Carriers (CC Docket No. 00-256)

Number of Petitions Filed: 4.

Magalie Roman Salas,
Secretary.

[FR Doc. 01-17664 Filed 7-13-01; 8:45 am]

BILLING CODE 6712-01-M